DEPARTMENT OF STATE

[Public Notice 10324]

60-Day Notice of Proposed Information Collection: Request for Approval of Manufacturing License Agreements, Technical Assistance Agreements, and Other Agreements

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to April 30, 2018.

ADDRESSES: You may submit comments by any of the following methods:

• Web: Persons with access to the internet may comment on this notice by going to www.Regulations.gov. You can search for the document by entering “Docket Number: DOS-2018-0011” in the Search field. Then click the “Comment Now” button and complete the comment form.

• Email: DDTCPublicComments@state.gov.

• Regular Mail: Send written comments to: Directorate of Defense Trade Controls, Attn: Managing Director, 2401 E St. NW, Suite H-1205, Washington, DC 20522-0112.

You must include the subject (PRA 60 Day Comment), information collection title (Statement of Political Contributions, Fees, and Commissions Relating to Sales of Defense Articles and Defense Services), and OMB control number (1405-0093) in any correspondence.

FOR FURTHER INFORMATION CONTACT: Direct requests for additional information regarding this collection to Andrea Battista, who may be reached at BattistaAL@state.gov.

SUPPLEMENTARY INFORMATION: • Title of Information Collection: Request for Approval of Manufacturing License Agreements, Technical Assistance Agreements, and Other Agreements.

• OMB Control Number: 1405-0093.

• Type of Request: Extension.

• Originating Office: Directorate of Defense Trade Controls (DDTC).

• Form Number: No Form.

• Respondents: Business, Nonprofit Organizations, or Persons who intend to furnish defense services or technical data to a foreign person.

• Estimated Number of Respondents: 580.

• Estimated Number of Responses: 4430.

• Average Time per Response: 2 hours.

• Total Estimated Burden Time: 8,860 hours.

• Frequency: On occasion.

• Obligation To Respond: Mandatory.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this notice are public record. Before including any detailed personal information, you should be aware that your comments as submitted, including your personal information, will be available for public review.

Abstract of Proposed Collection

DDTC regulates the export and temporary import of defense articles and services enumerated on the USML in accordance with the Arms Export Control Act (AECA) (22 U.S.C. 2751 et seq.) and the International Traffic in Arms Regulations (ITAR) (22 CFR parts 120-130). In accordance with ITAR § 124.1, any person who intends to furnish defense services or technical data to a foreign person must submit a proposed technical assistance, manufacturing, or distribution license agreement and obtain prior authorization from DDTC for such agreement. Amendments to existing agreements must also be submitted for approval. The electronic mechanism utilized for submitting, reviewing, and approving agreement proposals is the Defense Trade Application Systems (DTAS). Specifically, this process utilizes the DSP-5 license application as the primary instrument or “vehicle” for transmitting agreements and their respective amendments from one phase of the adjudication process to the next.

Methodology

Respondents will submit information as attachments to relevant license applications or requests for other approval.

Anthony M. Dearth,
Chief of Staff (Acting), Directorate of Defense Trade Controls, U.S. Department of State.

[FR Doc. 2018-03911 Filed 2-26-18; 8:45 am]

BILLING CODE 4710-25-P